DEPARTMENT OF ENERGY

Fusion Energy Sciences Advisory Committee; Meeting

AGENCY: Office of Science, Department of Energy,

ACTION: Notice of open meeting.

SUMMARY: This notice announces a meeting of the Fusion Energy Sciences Advisory Committee (FESAC). The Federal Advisory Committee Act requires that public notice of these meetings be announced in the Federal Register.

DATES: March 16, 2020; 8:30 a.m. to 5:00 p.m.

March 17, 2020; 8:30 a.m. to 12:00 noon.

ADDRESSES: Hilton Washington DC/Rockville Hotel, 1750 Rockville Pike, Rockville, Maryland 20852

FOR FURTHER INFORMATION CONTACT: Dr. Samuel J. Barish, Acting Designated Federal Officer, Office of Fusion Energy Sciences (FES); U.S. Department of Energy; Office of Science; 1000 Independence Avenue SW; Washington, DC 20585; Telephone: (301) 903-2917.

SUPPLEMENTARY INFORMATION:

Purpose of the Committee: To provide advice on a continuing basis to the Director, Office of Science of the Department of Energy, on the many complex scientific and technical issues that arise in the development and implementation of the fusion energy sciences program.

Tentative Agenda Items:

• FES perspective

• Report of the Community Planning Process Team on a long-range strategic plan for the FES program

• Next Steps for a long-range strategic plan for the FES program

• 2019 Advancing fusion with machine learning workshop

• Diversity, equity, and inclusion initiatives in the Office of Science

• Public comment

• Adjourn

Note: Remote attendance of the FESAC meeting will be possible via Zoom. Instructions will be posted on the FESAC website: https://science.osti.gov/fes/fesac/Meetings prior to the meeting and can also be obtained by contacting Dr. Barish by email sam.barish@science.doe.gov or by phone (301) 903-2917.

Public Participation: The meeting is open to the public. If you would like to file a written statement with the Committee, you may do so either before or after the meeting. If you would like to make an oral statement regarding any of the items on the agenda, you should contact Dr. Barish at (301) 903-8584 (fax) or sam.barish@science.doe.gov (email). Reasonable provision will be made to include the scheduled oral statements during the Public Comment time on the agenda. The Chairperson of the Committee will conduct the meeting to facilitate the orderly conduct of business. Public comment will follow the 10-minute rule.

Minutes: The minutes of the meeting will be available for public review and copying within 30 days on the Fusion Energy Sciences Advisory Committee website at: http://science.energy.gov/fes/fesac/.

Signed in Washington, DC, on February 19, 2020.
LaTanya Butler,
Deputy Committee Management Officer.

[FR Doc. 2020-03614 Filed 2-21-20; 8:45 am]

BILLING CODE 6450-01-P